DEPARTMENT OF TRANSPORTATION

Federal Aviation Administration

14 CFR Part 39

[Docket No. FAA-2023-1823; Project Identifier MCAI-2023-00314-T; Amendment 39-22628; AD 2023-25-01]

RIN 2120-AA64

Airworthiness Directives; MHI RJ Aviation ULC (Type Certificate Previously Held by Bombardier, Inc.) Airplanes

AGENCY: Federal Aviation Administration (FAA), DOT.

ACTION: Final rule.

SUMMARY: The FAA is adopting a new airworthiness directive (AD) for certain MHI RJ Model CL-600-2C10 (Regional Jet Series 700, 701 & 702), CL-600-2C11 (Regional Jet Series 550), CL-600-2D15 (Regional Jet Series 705), CL-600-2D24 (Regional Jet Series 900), and CL-600-2E25 (Regional Jet Series 1000) airplanes. This AD was prompted by a report of a passenger seat Y-belt (lap belt) re-installed in the wrong orientation, due to an incorrect maintenance manual. This AD requires inspecting certain Y-belts for correct installation and damage and corrective actions if necessary. This AD also prohibits the use of certain revisions of a maintenance task. The FAA is issuing this AD to address the unsafe condition on these products.

DATES: This AD is effective February 6, 2024.

The Director of the Federal Register approved the incorporation by reference of a certain publication listed in this AD as of February 6, 2024.

ADDRESSES:

AD Docket: You may examine the AD docket at regulations.gov under Docket No. FAA-2023-1823; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For MHI RJ service information identified in this final rule, contact MHI RJ Aviation Group, Customer Response Center, 3655 Ave. des Grandes-Tourelles, Suite 110, Boisbriand, Québec J7H 0E2 Canada; North America toll-free telephone 833-990-7272 or direct-dial telephone 450-990-7272; fax 514-855-8501; email thd.crj@mhirj.com; website mhirj.com.

• You may view this service information at the FAA, Airworthiness Products Section, Operational Safety Branch, 2200 South 216th St., Des Moines, WA. For information on the availability of this material at the FAA, call 206-231-3195. It is also available at regulations.gov under Docket No. FAA-2023-1823.

FOR FURTHER INFORMATION CONTACT: Fatin Saumik, Aviation Safety Engineer, FAA, 1600 Stewart Avenue, Suite 410, Westbury, NY 11590; telephone 516-228-7300; email: 9-avs-nyaco-cos@faa.gov.

SUPPLEMENTARY INFORMATION:

Background

The FAA issued a notice of proposed rulemaking (NPRM) to amend 14 CFR part 39 by adding an AD that would apply to certain MHI RJ Model CL-600-2C10 (Regional Jet Series 700, 701 & 702), CL-600-2C11 (Regional Jet Series 550), CL-600-2D15 (Regional Jet Series 705), CL-600-2D24 (Regional Jet Series 900), and CL-600-2E25 (Regional Jet Series 1000) airplanes. The NPRM published in the Federal Register on September 13, 2023 (88 FR 62709). The NPRM was prompted by AD CF-2023-10, dated February 17, 2023, issued by Transport Canada, which is the aviation authority for Canada (referred to after this as the MCAI). The MCAI states that following maintenance on a Model CL-600-2C10 airplane, a Y-belt (also known as lap belt) was re-installed in the wrong orientation. The MCAI further states that the instructions contained within the aircraft maintenance manual (AMM) on how to install the passenger seat Y-belts, showed an incorrect orientation of the Y-belt assembly. The MCAI confirms the manufacturer updated the AMM tasks and these instructions have been corrected. Y-belts installed in the wrong orientation, if not corrected, could result in passenger injury due to head impact on the front monument during an emergency landing.

In the NPRM, the FAA proposed to require inspecting certain Y-belts for correct installation and damage and corrective actions if necessary. The FAA also proposed to prohibit the use of certain revisions of a maintenance task. The FAA is issuing this AD to address the unsafe condition on these products.

You may examine the MCAI in the AD docket at regulations.gov under Docket No. FAA-2023-1823.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Related Service Information Under 1 CFR Part 51

The FAA reviewed MHI RJ Service Bulletin 670BA-25-135, Revision B, dated November 25, 2022. This service information specifies procedures to inspect for correct installation (as shown in certain maintenance tasks) of each passenger seat Y-belt. This service information also specifies corrective actions, which include re-installing each incorrectly installed Y-belt per certain maintenance tasks and addressing damage (includes dents or misshapen hooks that attach the belt to the seat).

This service information is reasonably available because the interested parties have access to it through their normal course of business or by the means identified in the ADDRESSES section.

Costs of Compliance

The FAA estimates that this AD affects 606 airplanes of U.S. registry. The FAA estimates the following costs to comply with this AD:

Estimated Costs for Required Actions
Labor cost | Parts cost | Cost per product | Cost on U.S. operators
2 work-hours × $85 per hour = $170 | $0 | $170 | $103,020

The FAA estimates the following costs to do any necessary replacements that would be required based on the results of the inspection. The agency has no way of determining the number of aircraft that might need these replacements.

Estimated Costs of On-Condition Actions
Labor cost | Parts cost | Cost per product
Up to 0.5 work-hours × $85 per hour = $43 | Up to $550 per Y-belt assembly | Up to $593.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-25-01 MHI RJ Aviation ULC (Type Certificate Previously Held by Bombardier, Inc.): Amendment 39-22628; Docket No. FAA-2023-1823; Project Identifier MCAI-2023-00314-T.

(a) Effective Date

This airworthiness directive (AD) is effective February 6, 2024.

(b) Affected ADs

None.

(c) Applicability

This AD applies to MHI RJ Aviation ULC (Type Certificate previously held by Bombardier, Inc.) airplanes, certificated in any category, identified in paragraphs (c)(1) through (3) of this AD.

(1) Model CL-600-2C10 (Regional Jet Series 700, 701 & 702) and CL-600-2C11 (Regional Jet Series 550) airplanes, serial numbers (S/N) 10001 through 10348 inclusive.

(2) Model CL-600-2D15 (Regional Jet Series 705) and CL-600-2D24 (Regional Jet Series 900) airplanes, S/N 15001 through 15499 inclusive.

(3) Model CL-600-2E25 (Regional Jet Series 1000) airplanes, S/N 19001 through 19064 inclusive.

(d) Subject

Air Transport Association (ATA) of America Code: 25, Equipment/Furnishings.

(e) Unsafe Condition

This AD was prompted by a report of a passenger seat Y-belt (lap-belt) re-installed in the wrong orientation, due to an incorrect maintenance manual. The FAA is issuing this AD to detect and address Y-belts that are incorrectly installed. The unsafe condition, if not addressed, could result in passenger injury due to head impact on the front monument during an emergency landing.

(f) Compliance

Comply with this AD within the compliance times specified, unless already done.

(g) Requirements

Except as specified in paragraph (h) of this AD: Within 24 months after the effective date of this AD, inspect each Y-belt for correct installation and damage and, if any incorrect installation or damage is found, within 24 months after the effective date of this AD, do all applicable corrective actions, in accordance with paragraph B, “Procedure,” of the Accomplishment Instructions of MHI RJ Service Bulletin 670BA-25-135, Revision B, dated November 25, 2022. For this AD, damage includes dents or misshapen hooks that attach the belt to the seat.

Note 1 to paragraph (g): Y-belts are also known as lap belts.

(h) Exceptions to Service Information

Where paragraph B, “Procedure,” of the Accomplishment Instructions of MHI RJ Service Bulletin 670BA-25-135, Revision B, dated November 25, 2022, specifies to “refer to AMM” replace those words with “in accordance with AMM.”

(i) Maintenance Task Prohibition

As of the effective date of this AD, it is prohibited to use MHI RJ Aviation ULC Aircraft Maintenance Manual (AMM) task 25-21-04-400-801, revision 69 or earlier.

(j) Credit for Previous Actions

This paragraph provides credit for actions required by paragraph (g) of this AD, if those actions were performed before the effective date of this AD using the service information identified in paragraph (j)(1) or (2) of this AD, provided the actions were done using MHI RJ AMM Revision 70, dated May 25, 2022, or Revision 71, dated December 16, 2022.

(1) MHI RJ Service Bulletin 670BA-25-135, dated June 1, 2022.

(2) MHI RJ Service Bulletin 670BA-25-135, Revision A, dated August 30, 2022.

(k) Additional AD Provisions

The following provisions also apply to this AD.

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (l)(2) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada or MHI RJ Aviation ULC's Transport Canada Design Approval Organization (DAO). If approved by the DAO, the approval must include the DAO-authorized signature.

(l) Additional Information

(1) Refer to Transport Canada AD CF-2023-10, dated February 17, 2023, for related information. This Transport Canada AD may be found in the AD docket at regulations.gov under Docket No. FAA-2023-1823.

(2) For more information about this AD, contact Fatin Saumik, Aviation Safety Engineer, FAA, 1600 Stewart Avenue, Suite 410, Westbury, NY 11590; telephone 516-228-7300; email: 9-avs-nyaco-cos@faa.gov.

(3) Service information identified in this AD that is not incorporated by reference is available at the addresses specified in paragraphs (m)(3) and (4) of this AD.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) MHI RJ Service Bulletin 670BA-25-135, Revision B, dated November 25, 2022.

(ii) [Reserved]

(3) For MHI RJ Aviation ULC service information identified in this AD, contact MHI RJ Aviation Group, Customer Response Center, 3655 Ave. des Grandes-Tourelles, Suite 110, Boisbriand, Québec J7H 0E2 Canada; North America toll-free telephone 833-990-7272 or direct-dial telephone 450-990-7272; fax 514-855-8501; email thd.crj@mhirj.com; website mhirj.com.

(4) You may view this service information at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on December 5, 2023.
Victor Wicklund,
Deputy Director, Compliance & Airworthiness Division, Aircraft Certification Service.

[FR Doc. 2023-28801 Filed 12-29-23; 8:45 am]

BILLING CODE 4910-13-P